DEPARTMENT OF TRANSPORTATION

Office of the Secretary

Aviation Proceedings; Certificates of Public Convenience and Necessity and Foreign Air Carrier Permits

Notice of Applications for Certificates of Public Convenience and Necessity and Foreign Air Carrier Permits Filed Under subpart B (formerly subpart Q) during the Week Ending November 15, 2002. The following Applications for Certificates of Public Convenience and Necessity and Foreign Air Carrier Permits were filed under subpart B (formerly subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-1998-3419.

Date Filed: November 13, 2002.

Due Date for Answers, Conforming Applications, or Motion to Modify Scope: December 4, 2002.

Description: Application of Delta Air Lines, Inc., pursuant to 49 U.S.C. sections 41102 and 41108 and subpart B, requesting renewal of its certificate of public convenience and necessity to engage in scheduled foreign air transportation of persons, property, and mail between the terminal point Atlanta, Georgia and the terminal point Tokyo, Japan.

Docket Number: OST-1998-3419.

Date Filed: November 13, 2002.

Due Date for Answers, Conforming Applications, or Motion to Modify Scope: December 4, 2002.

Description: Application of Continental, Airlines, Inc., pursuant to 49 U.S.C. section 41102 and subpart B, requesting renewal of its Route 753 certificate authorizing Continental to provide scheduled air transportation of persons, property, and mail between certain points in the United States and Tokyo and Osaka, Japan, as well as beyond Japan to Seoul, Korea, Singapore and Bangkok, Thailand.

Dorothy Y. Beard,
Federal Register Liaison.

[FR Doc. 02-30107 Filed 11-26-02; 8:45 am]

BILLING CODE 4910-62-P